ENVIRONMENTAL PROTECTION AGENCY

[FRL-6948-4]

Public Participation in Activities Relating to the 1998 Agreement on Global Technical Regulations; Statement of Policy

AGENCY: Environmental Protection Agency (EPA).

ACTION: Notice of public workshop.

SUMMARY: EPA is holding a public workshop and soliciting public comments with regard to the development of the Agency's policy concerning its participation in the United Nations/Economic Commission for Europe, World Forum for Harmonization of Vehicle Regulations (WP.29) and the development of regulations under the 1998 “Agreement Concerning the Establishing of Global Technical Regulations for Wheeled Vehicles, Equipment and Parts.” This notice is also soliciting comment on the involvement of the public in the Agency's participation in the development of regulations under the 1998 Agreement. Finally, this notice sets forth the Agency's priorities in participating in the global regulatory harmonization process. The Agency intends to issue its policy following the receipt of comments solicited here.

The National Highway Traffic Safety Administration (NHTSA) which, together with EPA, negotiated the Agreement on behalf of the U.S., will participate in this workshop.

DATES: Public workshop: The public workshop will be held on March 19, 2001, from 9:00 a.m. to 1:00 p.m.

ADDRESSES: Public workshop: The public workshop will be held in room 1332A of the EPA Headquarters, Ariel Rios Building North, 1300 Pennsylvania Avenue, NW, Washington DC.

Contact: Those persons wishing to participate in the workshop should contact Ms. Catrice Jefferson by telephone, (202) 564-1668, or email, “jefferson.catrice@epa.gov” no later than March 15, 2001.

Written Comments: Written comments to the Agency must be received by April 18, 2001. Comments must refer to docket number A-2001-08 and be submitted (preferably 2 copies) to EPA's Air Docket at the following address: U.S. Environmental Protection Agency (EPA), Air Docket (6102), Room M-1500, 401 M Street S.W., Washington, D.C. 20460. The Docket Office is open between 8 a.m. and 5:30 p.m., Monday through Friday except on government holidays. You can reach the Air Docket by telephone at (202) 260-7548, and by facsimile at (202) 260-4400. We may charge a reasonable fee for copying docket materials, as provided in 40 CFR part 2.

FOR FURTHER INFORMATION CONTACT: Ms. Catrice Jefferson, Office of Air and Radiation, Mail Code 6103A, U.S. Environmental Protection Agency, Washington, DC. 20460, Telephone: (202) 564-1668; Fax: (202) 564-1557; email “jefferson.catrice@epa.gov”.

SUPPLEMENTARY INFORMATION:

Table of Contents

I. Introduction

A. The 1998 Agreement

B. Purpose of and need for 1998 Agreement

C. Purpose of this notice

II. Highlights of 1998 Agreement

III. Notice of EPA participation under the Global Agreement and mechanisms for public involvement

A. Access to information

B. Notice of participation in regulatory activity under the 1998 Global Agreement

C. Opportunity to comment

D. Establishment of a continuing forum

IV. The Agency's priorities in participating in the global harmonization process

V. Public workshop

VI. Comments

I. Introduction

A. The 1998 Agreement

The U.S. became the first signatory to the United Nations/Economic Commission for Europe (UN/ECE) Agreement Concerning the Establishing of Global Technical Regulations for Wheeled Vehicles, Equipment and Parts Which Can Be Fitted And/or Be Used on Wheeled Vehicles (the “Agreement”). The 1998 Agreement entered into force on August 28, 2000. The Agreement provides for the establishment of global technical regulations regarding wheeled vehicle safety, environmental performance, energy sources and theft prevention.

B. Purpose of and Need for 1998 Agreement

The decision of the U.S. to become a Contracting Party to the 1998 Agreement and participate in a global regulation development process is a critical step toward a cooperative worldwide identification of best safety, environmental and energy practices.

Becoming a Contracting Party to the 1998 Agreement accomplishes several purposes for the U.S. and the EPA in particular. It gives the U.S. a vote in the establishment of voluntary global environmental regulations for wheeled vehicles, equipment and parts under the United Nations. Such participation enables the U.S. to take a leading role in the design and development of globally harmonized mobile source environmental regulations that can be adopted worldwide. Further, the 1998 Agreement ensures that U.S. mobile source regulatory standards will be considered in any effort to develop such harmonized global technical regulations for mobile sources.

C. Purpose of This Notice

The purpose of this notice is twofold. First, it announces the procedures that EPA intends to follow to ensure that its activities under the 1998 Agreement are open and transparent to the public. Second, it specifies the priorities that will guide the Agency during its participation in activities under the 1998 Agreement. Foremost of these priorities is to promote and establish environmental standards for mobile sources that reflect the best environmental practices around the world.

II. Highlights of 1998 Agreement

The key aspects of the 1998 Agreement are summarized below to aid persons unfamiliar with its provisions. The complete text of the Agreement can be found in docket A-2001-08 and on the Internet at the address provided herein.

• The Agreement establishes a global process under the United Nations, Economic Commission for Europe (UN/ECE), for developing and harmonizing global technical regulations ensuring high levels of environmental protection, safety, energy efficiency and anti-theft performance of wheeled vehicles, equipment and parts which can be fitted and/or be used on wheeled vehicles. (Preamble, Art. 1).

• Members of the ECE, as well as members of the United Nations that participate in ECE activities, are eligible to become Contracting Parties. Specialized agencies and organizations that have been granted consultative status by the UN/ECE may participate in that capacity without voting privilege. (Art. 2)

• The Agreement was entered into force on August 28, 2000, when the required minimum of eight (8) countries or regional economic integration organizations became Contracting Parties. (Art. 11) The current list of Contracting Parties is: the United States, Canada, Japan, France, the United Kingdom, the European Community, Germany, the Russian Federation, the People's Republic of China, and the Republic of Korea.

• The Agreement explicitly recognizes the importance of continuously improving and seeking high levels of safety and the right of national and subnational authorities, (e.g., California's authority under the Clean Air Act to set separate emission standards), to adopt and maintain technical regulations that are more stringently protective of health and the environment than those established at the global level. (Preamble)

• The Agreement explicitly states that one of its purposes is to ensure that actions under the Agreement do not promote, or result in, a lowering of environmental protection or safety within the jurisdiction of the Contracting Parties, including the subnational level. (Art. 1)

• To the extent consistent with achieving high levels of environmental protection and vehicle safety, the Agreement also seeks to promote global harmonization of wheeled vehicle regulations. (Preamble)

• The Agreement emphasizes that the development of global technical regulations will be transparent. (Art. 1)

• To complement the Agreement's transparency provisions, EPA will take steps to ensure transparency in its consideration of global regulations being developed under the Agreement. EPA will ensure that key documents developed under the Agreement are placed in the established public docket for this activity and on the Internet as they become available. Further, EPA will accept public comments on such documents.

• The Agreement provides two different paths to the establishment of global technical regulations. The first is the harmonization of existing national regulatory standards or their improvement. The second is the development of new global technical regulations where there are no existing regulatory standards. (Article 6.2 and 6.3)

• The process for developing a harmonized global technical regulation includes a technical review of existing regulations of the Contracting Parties, relevant UN/ECE regulations and international voluntary standards. If available, comparative assessments of the benefits of these regulations (also known as functional equivalence assessments) will be reviewed. (Art. 1.1.2, Article 6.2)

• The process for developing a new global technical regulation includes the assessment of technical and economic feasibility and a comparative evaluation of the potential benefits and cost effectiveness of alternative regulatory requirements and test method(s) by which compliance is to be demonstrated. (Article 6.3)

• To establish any global technical regulation, there must be a consensus vote. Thus, if any Contracting Party votes against a recommended global technical regulation, it would not be established. (Annex B, Article 7.2)

• The establishment of a global technical regulation does not obligate Contracting Parties to adopt that regulation. Contracting Parties retain the right to choose whether or not to adopt any technical regulation established as a global technical regulation under the Agreement. (Preamble, Article 7)

• Consistent with the recognition of that right, Contracting Parties have only a limited obligation when a global technical regulation is established under the Agreement. Any Contracting Party that voted to establish the regulation must initiate those national procedures that are used to adopt any domestic regulation. (Article 7)

• For the U.S., this would mean initiating the rulemaking process either by issuing an Advanced Notice of Proposed Rulemaking (ANPRM) or a Notice of Proposed Rulemaking (NPRM). If the U.S. EPA were to adopt a global technical regulation into national law, it would do so in accordance with all applicable procedural and substantive statutory provisions, including the Administrative Procedure Act, the Clean Air Act, the Noise Control Act and comparable provisions of other relevant statutes.

• The Agreement allows for global technical regulations to contain a “global” level of stringency for most parties and ‘alternative’ levels of stringency for developing countries. In this way, all countries can participate in the development, establishment and adoption of global technical regulations. The Agreement notes that a developing country may initially adopt one of the lower levels of stringency and later successively adopt higher levels of stringency. (Article 4)

III. Notice of EPA Participation Under the Global Agreement and Mechanisms for Public Involvement

The Agency believes that it must have flexibility so that its activities and procedures attendant to the 1998 Global Agreement can evolve easily and quickly as the U.S. gains experience in implementing the Agreement in a manner that advances environmental protection and involves the public.

EPA recognizes that its activities under the 1998 Agreement could lead to the modification of its existing regulations or the possible adoption of new globally harmonized regulations. Accordingly, EPA plans to provide the public with access to pertinent information developed under the global process. The EPA will also provide the public with adequate time to review and comment on any potential international regulatory activity that the US is considering for adoption. To this end, the Agency intends to provide:

A. Access to Information

The agency intends to publish an annual calendar of meetings and listing of global technical regulations under consideration by Working Party—29. As documents generated under the Global Agreement become available in English to EPA, the agency intends to place them in a docket and, whenever possible, make them Internet accessible as well.

B. Notice of Participation in Regulatory Activity Under the 1998 Global Agreement

The EPA intends to publish in the Federal Register a list of those regulatory activities under the Global Agreement where the U.S. intends to participate in their development. The Agency will provide in the notice a description of the issues and the basis for U.S. participation.

Many or all of these documents are currently available on the website of the UNECE World Forum for the Harmonization of Vehicle Regulations: http://www.unece.org/trans/main/welcwp29.htm.

C. Opportunity to Comment

The agency proposes to seek public comment at key points during the development of global technical regulations. In the case of a proposal submitted by the U.S. for a new global technical regulation or the harmonization of existing regulations, the EPA will give notice, as stated above, and request comment. However, if the contemplated international regulation concerns a top environmental priority which needs to be addressed by the issuance of a regulation in the U.S., then the Agency will publish a Federal Register notice under the appropriate environmental statute.

When the administrative body (Working Party 29) determines that a draft global regulation is suitable for submission to the Contracting Parties of the 1998 Agreement for their consideration, the EPA will seek public review and comment. The EPA will provide for adequate time for receipt and review of any comments before the U.S. exercises its vote on whether to adopt such regulation as a global regulation under the United Nations Agreement. It should be emphasized that a U.S. vote to adopt a regulation under the Agreement only obligates the U.S., or any other Contracting Party, to initiate its domestic regulatory process. The U.S., or any other Contracting Party, is not compelled to adopt the global regulation into domestic law.

D. Establishment of a Continuing Forum

The Agency seeks comment regarding the desirability of holding periodic public meetings to provide interested parties an opportunity to comment on any information they have gained from various sources including the Federal Register and the Internet.

IV. The Agency's Priorities in Participating in the Global Harmonization Process

The Agency reaffirms its commitment to the harmonization of environmental regulations for wheeled vehicles, equipment and components, including engines. However, it will, as a matter of U.S. policy, recognize the sovereign right of any country to set regulations that provide an appropriate level of protection for that country. To that end, the EPA is committed to the development or harmonization of global regulations that will raise the level of environmental protection on a worldwide basis. As a matter of policy, the U.S. will not consider the adoption of global regulations that would diminish the level of environmental protection of existing regulations in the United States solely to achieve harmonization.

The Agency is also developing a list of recommended regulations that it believes should be candidates for future harmonization actions. This list, which will be formally submitted to the United Nations under this Agreement and kept in a compendium of technical regulations, will include both final U.S. EPA regulations that we believe should be seriously considered for adoption by other countries as well as future technical regulations in areas where new requirements should be developed. Examples of regulations that could be included in the compendium include the Tier 2 program, the 2007 Heavy-duty diesel engine standards, the On-board diagnostic program, the development of driving cycles for on-highway motorcycles, and the next phase of standards for compression-ignition nonroad engines. We are interested in receiving comments on the types of actions EPA should be including in the compendium of regulations that will be submitted under the guidelines of the Agreement.

V. Public Workshop

All interested persons and organizations are invited to attend a workshop on the issues raised in this notice. The agency intends to conduct the workshop informally. The National Highway Traffic Safety Administration (NHTSA) which, together with EPA, negotiated the Agreement on behalf of the U.S., will participate in this workshop. An EPA official will briefly describe the topics discussed in this notice and then open the floor for public comment.

Any person planning to participate should contact Mr. Kenneth Feith at the address and telephone number given at the beginning of this notice, no later than 10 calendar days before the workshop.

VI. Comments

The Agency invites all interested parties to submit written comments. The agency notes that participation in the public workshop is not a prerequisite for submission of written comments. Written comments should be sent to the address specified above and follow the requirements stated therein.

Dated: February 16, 2001.
Robert D. Brenner,
Acting Assistant Administrator for Air and Radiation.

[FR Doc. 01-5863 Filed 3-8-01; 8:45 am]

BILLING CODE 6560-50-U